DEPARTMENT OF LABOR

Employment and Training Administration

[TA-W-63,450]

Port of Port Angeles, Port Angeles, WA; Notice of Termination of Investigation

Pursuant to Section 221 of the Trade Act of 1974, as amended, an investigation was initiated on May 30, 2008 in response to a petition filed on behalf of workers of Port of Port Angeles, Port Angeles, Washington.

The petition regarding the investigation has been deemed invalid. The petition was signed by two dislocated workers. A petition filed by workers requires three signatures. Consequently, the investigation has been terminated.

Signed at Washington, DC this 3rd day of June 2008.
Elliott S. Kushner,
Certifying Officer, Division of Trade Adjustment Assistance.

[FR Doc. E8-13399 Filed 6-13-08; 8:45 am]

BILLING CODE 4510-FN-P